DEPARTMENT OF JUSTICE

Notice of Lodging of Proposed Amendment to the Consent Decree Under the Clean Air Act

Notice is hereby given that on August 13, 2012, pursuant to 28 CFR 50.7, a proposed Amendment to the Consent Decree (“Amendment”) in the matter of United States v. Commonwealth of Pennsylvania, et al., Civil Action No. 4:10-cv-02672-CCC, was lodged with the United States District Court for the Middle District of Pennsylvania.

As a part of the Consent Decree in this matter, the Pennsylvania Department of Corrections and Department of General Services (collectively, the “Commonwealth”) agreed to control particulate matter emissions at its Huntingdon, Pennsylvania facility (“the Huntingdon facility”) by either shutting down coal-fired boilers, installing air emission controls on the existing unit, or converting the coal-fired boilers to natural gas-fired boilers by June 30, 2012. The Commonwealth did not meet the deadline imposed in the Consent Decree for the Huntingdon facility. The proposed Amendment requires the Commonwealth to either install new units with pollution controls or convert existing units to natural gas fired units by June 30, 2013. The Commonwealth will also pay a civil of $39,000.

The Department of Justice will receive for a period of thirty (30) days from the date of this publication comments relating to the Amendment. Comments should be addressed to the Assistant Attorney General, Environment and Natural Resources Division, and either emailed to pubcomment-ees.enrd@usdoj.gov or mailed to P.O. Box 7611, U.S. Department of Justice, Washington, DC 20044-7611, and should refer to United States v. Commonwealth of Pennsylvania, et al., D.J. Ref. No. 90-5-2-1-09099.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or emailing a request to EESCDCopy.ENRD@usdoj.gov, fax number (202) 514-0097, phone confirmation number (202) 514-5271. In requesting a copy from the Consent Decree Library, please enclose a check in the amount of $3.00 (25 cents per page reproduction cost) payable to the U.S. Treasury, or, if by email or fax, forward a check in that amount to the Consent Decree Library at the stated address.

Robert D. Brook,
Assistant Section Chief, Environmental Enforcement Section, Environment and Natural Resources Division.

[FR Doc. 2012-20246 Filed 8-16-12; 8:45 am]

BILLING CODE 4410-15-P